DEPARTMENT OF HOMELAND SECURITY

Bureau of Customs and Border Protection

Notice of Cancellation of Customs Broker Permit

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker permits are cancelled without prejudice.

Name | Permit | Issuing port
General Brokerage Services, Inc. | H34 | Miami.
General Brokerage Services, Inc. | 99-00537 | Washington, DC.
MarketMakers, Inc. | WW6 | Miami.
Oscar H. Vildosola | 26-02-ALW | Nogales.
Menlo Worldwide Trade Services, Inc. | 26-02-001 | Nogales.
Mary Fong | 20016 | Los Angeles.
Hanshin Air Cargo | 98013 | Los Angeles.
Menlo Worldwide Trade Services, Inc. | 52-03-225 | Miami.
Mark Leverett | WYT | Miami.

Dated: September 8, 2005.
Jayson P. Ahern,
Assistant Commissioner, Office of Field Operations.

[FR Doc. 05-18361 Filed 9-14-05; 8:45 am]

BILLING CODE 9110-06-P